DEPARTMENT OF THE INTERIOR

National Park Service

Draft Environmental Impact Statement/General Management Plan, Minidoka Internment National Monument, Jerome County, ID; Notice of Availability

SUMMARY: Pursuant to 102(2)(C) of the National Environmental Policy Act of 1969 (Pub. L. 91-190, as amended), and the Council on Environmental Quality Regulations (40 CFR part 1500-1508), the National Park Service, Department of the Interior, has prepared a draft general management plan (GMP) and environmental impact statement (DEIS) for Minidoka Internment National Monument located in Jerome County, Idaho. In addition to a “no-action” alternative (which would maintain current management), the DEIS describes and analyzes three “action” alternatives which respond to the concerns and issues of the public identified during the extensive scoping process, as well as conservation planning requirements. These alternatives present varying management strategies for resource protection and preservation, education and interpretation, visitor use and facilities, land protection and boundaries, and long-term operations and management of the national monument. The potential environmental consequences of all the alternatives, and mitigation strategies, are identified and analyzed; a determination as to the “environmentally preferred” alternative is also provided in the DEIS.

Scoping: A Notice of Intent announcing preparation of the DEIS and general management plan was published in the Federal Register on April 24, 2002. Extensive public involvement was deemed necessary for the success of this planning project, given the nature and sensitivity of the national monument's history, the speed in which the national monument was established, as well as the national monument's remote location. Public engagement and information measures have included public meetings and workshops, presentations and meetings with interested stakeholders, briefings with the Congressional delegation and State and Jerome county officials, newsletter mailings, local and regional and press releases, and Web site postings.

Preceding the formal GMP planning process, National Park Service (NPS) staff conducted informational meetings about the national monument with Japanese American organizations, community organizations, various governmental entities, potential stakeholder groups, and individuals during the spring, summer and early fall of 2002. Approximately 50 meetings were held in Idaho, Washington, Oregon, and Alaska during this time, and approximately 2,000 people were contacted. The purpose of these initial meetings was to help characterize the scale and extent of the planning process.

Thus far the NPS has encouraged the public to provide relevant information, issues and concerns during two formal public planning stages. The first stage, called Scoping, was intended to elicit issues, concerns, and suggestions to be addressed during the planning process. Nine public workshops were held in Idaho, Washington, and Oregon in November 2002; per Federal Register announcement dated November 19, 2002 the scoping period was extended an additional 30 days through December 31, 2002. Overall 250 people provided comments in workshops, and another 225 people provided written comments. The second stage, called Draft Alternatives, was intended to present the public with preliminary draft alternatives and invite comments on these alternatives. These draft alternatives were developed to address the specific issues and concerns that were raised by the public during the Scoping phase. Eleven public workshops were held in Idaho, Washington, and Oregon in July and August 2003 (215 people provided oral comments in the workshops, and another 50 people provided written comments).

Proposed Plan and Alternatives: Alternative A is the “no-action” alternative and would continue current management practices. This alternative would provide general management guidance for incremental and minimal changes in park operations, staffing, visitor services, and facilities to accommodate visitors. While the historic resources of the site would continue to be protected, only minor additional site work would be anticipated under this alternative. The “no-action” alternative is the baseline for evaluating the changes and impacts of the three “action” alternatives.

Alternative B emphasizes the development and extensive use of outreach and partnerships to assist the national monument staff in telling the Minidoka story to the American people. Off-site visitor education and interpretation would be conducted through diverse comprehensive programs developed in cooperation with partners, including school districts, museums, and educational and legacy organizations and institutions. Alternative B would focus on identifying off-site facilities for education and interpretation with minimal new development at the national monument site. Historic structures within the national monument would be adaptively reused for visitor and monument functions and for minimal administrative and operational needs. Key historic features would be delineated, restored, or rehabilitated. On-site education and interpretation would be accomplished through a range of self-exploratory visitor experiences.

Alternative C, the “agency preferred” alternative, emphasizes on-site education and interpretation and the extensive treatment and use of cultural resources in telling the Minidoka story. On-site education and interpretation would be accomplished through a wide range of visitor experiences, including immersion into the historic scene, interaction with a variety of educational and interpretive media and personal services, and participation in creative and self-directed activities. Off-site visitor education and interpretation would be conducted through diverse programs developed in cooperation with partners, including school districts, museums, and educational and legacy organizations and institutions. Various preservation techniques would be used to protect and enhance historic resources, such as delineation, stabilization, restoration, rehabilitation, and reconstruction. These historic resources would be used for interpretive purposes to accurately and authentically convey the history and significance of the national monument. The establishment of one complete residential block in its original location and configuration would be the cornerstone of interpretive services and facilities at the national monument, essential for understanding and appreciation of the incarceration experience and the significance of the national monument. A visitor contact facility and maintenance area would be developed at the national monument by adaptively reusing existing historic buildings. There would be minimal new development.

The preferred alternative would require congressional legislation to authorize a boundary expansion to include areas where barracks historically stood in order to reestablish a complete residential block. Additionally, the NPS would request congressional legislation to transfer the Minidoka Relocation Center landfill, located one mile north of the national monument, from the BLM to the NPS. Finally, changing the name to Minidoka National Historic Site would be recommended, to be more reflective of the site's historic value.

Alternative D proposes several actions that would focus on education and interpretation on-site, specifically through the development of new visitor facilities. The 9-acre property would be used to develop new facilities and to provide space for a new national monument visitor center, education and research functions, along with a new memorial and garden. On-site education and interpretation would be accomplished through a wide range of visitor experiences, including interaction with a variety of educational and interpretive media, participation in creative and self-guided activities, and limited access of the historic scene. Visitor education programs, adaptive reuse of historic structures for park use, and the establishment of formal partnerships for education and outreach purposes would complement the new construction. Alternative D would focus on sound cultural resource management through preservation, restoration, rehabilitation, and reconstruction of certain historic features. Several actions would provide for the protection and enhancement of natural and scenic resources. Other actions would establish administrative and operational capabilities in terms of facilities and staffing. Most national monument staff activities would be on-site to manage resources and provide for visitor understanding and appreciation of the national monument. However, some off-site educational programs would complement the on-site programs through partnerships.

Public Review and Comment: The Draft GMP/EIS is now available for public review. Interested persons and organizations wishing to express any new concerns or provide additional information are encouraged to obtain the document by contacting the Superintendent, Minidoka Internment National Monument, P.O. Box 570, Hagerman, Idaho 83332-0570, or via telephone at (208) 837-4793. The draft document may also be reviewed at area libraries, or can be obtained electronically via the monument's planning Web site at http://parkplanning.nps.gov/miin. In addition, the NPS will conduct public meetings in Idaho, Washington, and Oregon to facilitate public review and comment on the Draft GMP/EIS. At this time, meetings are intended to be scheduled during the first two weeks of July, 2005. Confirmed details on meeting locations, times, etc will be announced via local and regional news media, will be posted on the monument's planning Web site, or can be obtained by contacting the Superintendent directly. A draft GMP/EIS newsletter will also be distributed widely.

All written comments must be postmarked or transmitted not later than September 19, 2005, and should be submitted to the address noted above (or may also be submitted by e-mail to MIIN_GMP@nps.gov). All comments will become part of the public record. If individuals submitting comments request that their name or address be withheld from public disclosure, the request will be honored to the extent allowable by law. Such requests must be stated prominently in the beginning of the comments. There also may be circumstances wherein the NPS will withhold a respondent's identity as allowable by law. As always: the NPS will make available to public inspection all submissions from organizations or businesses and from persons identifying themselves as representatives or officials of organizations; and anonymous comments may not be considered.

Decision: Following the opportunity to review the DEIS/GMP, all comments received will be carefully considered in preparing the final document. This is anticipated to be completed during fall 2006, and its availability will be similarly announced in the Federal Register and via local and regional press media. As a delegated EIS, the official responsible for the final decision is the Regional Director, Pacific West Region; subsequently the official responsible for implementation would be the Superintendent, Minidoka Internment National Monument.

Dated: April 15, 2005.
Patricia L. Neubacher,
Acting Regional Director, Pacific West Region.

[FR Doc. 05-14354 Filed 7-20-05; 8:45 am]

BILLING CODE 4312-DC-P